DEPARTMENT OF STATE

[Public Notice 10380]

Notice of Determinations: Culturally Significant Objects Imported for Exhibition Determinations: “In the Field of Empty Days: The Intersection of Past and Present in Iranian Art” Exhibition

SUMMARY: Notice is hereby given of the following determinations: I hereby determine that certain objects to be included in the exhibition “In the Field of Empty Days: The Intersection of Past and Present in Iranian Art,” imported from abroad for temporary exhibition within the United States, are of cultural significance. The objects are imported pursuant to loan agreements with the foreign owners or custodians. I also determine that the exhibition or display of the exhibit objects at the Los Angeles County Museum of Art, Los Angeles, California, from on or about May 6, 2018, until on or about September 9, 2018, and at possible additional exhibitions or venues yet to be determined, is in the national interest. I have ordered that Public Notice of these determinations be published in the Federal Register.

FOR FURTHER INFORMATION CONTACT: Elliot Chiu in the Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000.

Dated: March 21, 2018.
Jennifer Zimdahl Galt,
Acting Assistant Secretary for Educational and Cultural Affairs, Department of State.

[FR Doc. 2018-06869 Filed 4-3-18; 8:45 am]

BILLING CODE 4710-05-P